DEPARTMENT OF COMMERCE

International Trade Administration

Request for Applicants for the Appointment to the United States-India CEO Forum

AGENCY: International Trade Administration, Department of Commerce.

ACTION: Notice.

SUMMARY: This notice announces membership opportunities for appointment, or reappointment, to the U.S. Section of the U.S.-India CEO Forum.

DATES: Applications should be received no later than 45 days after publication of this Notice.

ADDRESSES: Please send requests for consideration to Noor Sclafani at the Office of South Asia, U.S. Department of Commerce, by email at noor.sclafani@trade.gov.

FOR FURTHER INFORMATION CONTACT: Noor Sclafani, International Trade Specialist, Office of South Asia, U.S. Department of Commerce, telephone: (202) 823-1840.

SUPPLEMENTARY INFORMATION: Established in 2005, the U.S.-India CEO Forum brings together leaders of the respective business communities of the United States and India to discuss issues of mutual interest, particularly ways to strengthen the economic and commercial ties between the two countries, and to communicate their joint recommendations to the U.S. and Indian governments.

The Forum will have U.S. and Indian public and private sector co-chairs. The Secretary of Commerce will serve as the U.S. Government chair. Other senior U.S. Government officials may also participate in the Forum.

The Forum also includes U.S. and Indian private sector members, who will be divided into two sections. The U.S. Section will consist of up to 20 members representing the views and interests of the private sector business community in the United States. Each government will appoint the members to its respective Section. The Secretary of Commerce will appoint the U.S. Section and the U.S. Section's private sector co-chair. The Forum will allow the private sector to develop and provide recommendations to the two governments that reflect private sector views, needs, concerns, and suggestions about the creation of an environment in which their respective private sectors can partner, thrive, and enhance bilateral commercial ties to expand trade and economic links between the United States and India. The Forum will work in tandem with, and provide input to, the government-to-government U.S.-India Commercial Dialogue.

Candidates are currently being sought for membership in the U.S. Section. Each candidate must be the Chief Executive Officer or President (or have a comparable level of responsibility) of a U.S.-owned or controlled company that is incorporated in and has its main headquarters located in the United States and is currently conducting business in both countries. Candidates must be U.S. citizens or otherwise legally authorized to work in the United States and be generally able to travel to India and locations in the United States to attend Forum meetings as well as U.S. Section meetings. Travel and in-person activities are contingent upon the safety and health conditions in the United States and India. Should safety or health conditions not be appropriate for travel and/or in-person activities, the meeting may be postponed or a virtual meeting may be scheduled instead. The candidate may not be a registered foreign agent under the Foreign Agents Registration Act of 1938, as amended.

Applications for membership in the U.S. Section by eligible individuals will be evaluated based on the following criteria:

• A demonstrated commitment by the individual's company to the Indian market either through exports or investment.

• A demonstrated strong interest in India and its economic development.

• The ability to offer a broad perspective and business experience to the discussions.

• The ability to address cross-cutting issues that affect the entire business community.

• The ability to initiate and be responsible for activities in which the Forum will be active.

• If applicable, prior work by the applicant on the U.S. Section of the Forum.

The evaluation of applications for membership in the U.S. Section will be undertaken by a committee of staff from multiple U.S. Government agencies. The U.S. Section of the Forum should include members who represent a diversity of business sectors and geographic locations. To the extent possible, the U.S. Section should include members from small, medium, and large firms. The Secretary will consider the same criteria when appointing the U.S. private sector co-chair.

U.S. Section members will receive no compensation for their participation in Forum-related activities. Individual members will be responsible for all travel and related expenses associated with their participation, including attendance at Forum and Section meetings. At the meetings, the U.S. and Indian Sections will be expected to offer recommendations to the U.S. and Indian governments. Only appointed members may participate in official Forum meetings; substitutes and alternates may not participate. U.S. Section members will serve for three-year terms but may be reappointed.

To be considered for membership in the U.S. Section, please submit the following information as instructed in the ADDRESSES and DATE captions above: Name and title of the individual requesting consideration; name and address of company's headquarters; location of incorporation; size of the company; size of company's export trade, investment, and nature of operations or interest in India; and a brief statement describing the candidate's qualifications that should be considered, including information about the candidate's ability to initiate and be responsible for activities in which the Forum will be active. Candidates who have previously been members of the U.S. Section will need to submit new application materials. All candidates will be notified once selections have been made.

Dated: May 12, 2021.
Valerie Dees,
Director of the Office of South Asia.

[FR Doc. 2021-10378 Filed 5-17-21; 8:45 am]

BILLING CODE 3510-HE-P